DEPARTMENT OF TRANSPORTATION

Federal Aviation Administration

14 CFR Part 39

[Docket No. FAA-2025-1736; Project Identifier MCAI-2024-00435-R; Amendment 39-23190; AD 2025-23-07]

RIN 2120-AA64

Airworthiness Directives; Airbus Helicopters

AGENCY: Federal Aviation Administration (FAA), DOT.

ACTION: Final rule.

SUMMARY: The FAA is superseding Airworthiness Directive (AD) 2020-06-12, which applied to certain Airbus Helicopters Model AS 332L2 and EC 225LP helicopters. AD 2020-06-12 required determining the accumulated hours time-in-service (TIS) of certain part-numbered main gearbox (MGB) suspension bar attachment bolts (bolt) and certain part-numbered MGB suspension bar attachment fittings (fitting), applying a life limit add-on factor, and inspecting the torque of certain MGB suspension bar attachment nuts (nuts). Since the FAA issued AD 2020-06-12, the manufacturer developed a design improvement, and the FAA determined that modifying the helicopter is necessary. This AD retains the actions required by AD 2020-06-12 and requires the modification of the MGB suspension bar, inspection of the torque, and corrective actions. This AD also allows credit for the initial service life calculations if certain requirements are met and prohibits installing a certain bolt after the modification is accomplished on any helicopter. The FAA is issuing this AD to address the unsafe condition on these products.

DATES: This AD is effective January 12, 2026.

The Director of the Federal Register approved the incorporation by reference of certain publications listed in this AD as of January 12, 2026.

ADDRESSES:

AD Docket: You may examine the AD docket at regulations.gov under Docket No. FAA-2025-1736; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For Airbus Helicopters material identified in this AD, contact Airbus Helicopters, 2701 North Forum Drive, Grand Prairie, TX 75052; phone: (972) 641-0000 or (800) 232-0323; fax: (972) 641-3775; website: airbus.com/en/products-services/helicopters/hcare-services/airbusworld.

• You may view this material at the FAA, Office of the Regional Counsel, Southwest Region, 10101 Hillwood Parkway, Room 6N-321, Fort Worth, TX 76177. For information on the availability of this material at the FAA, call (817) 222-5110. It is also available at regulations.gov under Docket No. FAA-2025-1736.

FOR FURTHER INFORMATION CONTACT: William McCully, Aviation Safety Engineer, FAA, 1600 Stewart Avenue, Suite 410, Westbury, NY 11590; phone: (781) 238-7244; email: william.mccully@faa.gov.

SUPPLEMENTARY INFORMATION:

Background

The FAA issued a notice of proposed rulemaking (NPRM) to amend 14 CFR part 39 to supersede AD 2020-06-12, Amendment 39-19881 (85 FR 19077, April 6, 2020) (AD 2020-06-12). AD 2020-06-12 applied to Airbus Helicopters Model AS 332L2 and EC 225LP helicopters with a MGB suspension bar front bolt part number (P/N) 332A22-1613-21 or 332A22-1613-20, MGB suspension bar rear bolt P/N 332A22-1614-20, MGB suspension bar front fitting P/N 332A22-1623-01, MGB suspension bar rear left-hand fitting P/N 332A22-1624-02 or 332A22-1624-04, or MGB suspension bar rear right-hand fitting P/N 332A22-1624-03 or 332A22-1624-05 installed. AD 2020-06-12 required determining the accumulated hours TIS of the affected bolts and fittings, applying a life limit add-on factor, and inspecting the torque of the MGB suspension bar attachment nuts. The FAA issued AD 2020-06-12 to address MGB suspension bar bolts and fittings remaining in service beyond their fatigue life and loose MGB suspension bar bolts and fittings, which could result in structural failure of the MGB suspension bar and loss of helicopter control.

The NPRM was published in the Federal Register on August 19, 2025 (90 FR 40262). The NPRM was prompted by a series of ADs related to this unsafe condition issued by EASA, which is the Technical Agent for the Member States of the European Union. EASA AD 2022-0021, dated February 1, 2022 (EASA AD 2022-0021), superseded EASA AD 2017-0189 due to Airbus Helicopters developing a design improvement consisting of installing new links on the fittings of the MGB suspension bars through modifications 0728521, 0728904, 0728496 and 0729044. EASA AD 2022-0021 introduced new service life limits (SLL) for certain post-modification parts and a new tightening torque check.

EASA AD 2022-0021 was subsequently superseded by EASA AD 2023-0147, dated July 19, 2023 (EASA AD 2023-0147), after EASA determined that, for helicopters modified with the new links on the fittings of the MGB suspension bars using earlier revisions of the service information, installing shims on the rear cooling rails of the MGB compartment was necessary. EASA revised AD 2023-0147 and issued EASA AD 2023-0147R1, dated March 12, 2025 (EASA AD 2023-0147R1) (also referred to as “the MCAI”) to address a difficulty with the installation of modification kits for EC 225LP helicopters.

In the NPRM, the FAA proposed to retain the actions of AD 2020-06-12, to include, using updated service information; determining the accumulated hours TIS of certain part-numbered bolts and certain part-numbered fittings; applying a life limit add-on penalty factor; removing any bolt that has reached or exceeded its life limit; inspecting the torque of certain nuts and, depending on the inspection, removing the bolt and nut from service. The NPRM also proposed to require modification of the MGB suspension bar, additional life limit calculations, a tightening torque inspection with new torque values, and removal and replacement of certain affected parts. Modification of the MGB suspension bar is considered terminating action for the proposed life limit calculations if certain requirements are met. The NPRM also proposed to prohibit installing a certain bolt after the modification is accomplished on any helicopter.

The FAA is issuing this AD to prevent MGB suspension bar attachment fittings and bolts remaining in service beyond their fatigue life. The unsafe condition, if not addressed, could result in structural failure of an MGB attachment assembly, detachment of an MGB suspension bar, and consequent loss of control of the helicopter.

You may examine the MCAI in the AD docket at regulations.gov under Docket No. FAA-2025-1736.

Comments

The FAA received a comment from one individual who requested more information about the bolts. The following presents the comment received on the NPRM and the FAA's response to the comment.

Request for Additional Information

The individual commenter requested additional information on the differences between the new MGB suspension bar rear bolts and the previous MGB suspension bar front bolts. The commenter acknowledges the affected bolts design may have been improved by installing new links on the fittings of the MGB suspension bars but inquired as to how Airbus Helicopters has ensured that these new bolts have a longer and safer life span.

The FAA infers the commenter is requesting more detailed information regarding the differences between the new and old MGB suspension bar rear bolts, as well as the measures Airbus Helicopters has implemented to ensure the improved performance of the new bolt. Although the FAA does not have specific information on the differences between the bolts and Airbus Helicopters manufacturing requirements, the FAA worked with the State of Design (EASA) to assure that the improved bolts are addressing the unsafe condition. The FAA has not changed this AD as a result of this comment.

Conclusion

These products have been approved by the civil aviation authority of another country and are approved for operation in the United States. Pursuant to the FAA's bilateral agreement with this State of Design Authority, that authority has notified the FAA of the unsafe condition described in the MCAI referenced above. The FAA reviewed the relevant data, considered any comments received, and determined that air safety requires adopting this AD as proposed. Accordingly, the FAA is issuing this AD to address the unsafe condition on these products. Except for minor editorial changes, this AD is adopted as proposed in the NPRM. None of the changes will increase the economic burden on any operator.

Material Incorporated by Reference Under 1 CFR Part 51

The FAA reviewed Airbus Helicopters Emergency Alert Service Bulletin (EASB) No. 01.00.86, Revision 4, dated January 6, 2022, for Model AS 332L2 helicopters and Airbus Helicopters EASB No. 04A013, Revision 4, dated January 6, 2022, for Model EC 225LP helicopters. This material specifies procedures for applying an add-on factor to the flying hours logged by the pins (bolts) and fittings and replacing them if the SLL is exceeded.

The FAA also reviewed Airbus Helicopters Alert Service Bulletin (ASB) No. AS332-53.02.03, Revision 2, dated June 15, 2023, for Model AS 332LP helicopters and Airbus Helicopters ASB No. EC225-53A065, Revision 4, dated May 28, 2024, for Model EC 225LP helicopters. This material specifies procedures to install new links on the attachment brackets of the MGB suspension bars and corresponds to Airbus Helicopters modification 0728496, 0728521, 0728904, and 0729044.

This material is reasonably available because the interested parties have access to it through their normal course of business or by the means identified in the ADDRESSES section.

Differences Between This AD and the MCAI

The MCAI allows a 150-hour extension to the life limit of a fitting for Model AS 332L2 helicopters if a dye-penetrant inspection is performed on the fitting and no cracks are found. This AD does not allow that option.

For Model AS 332L2 helicopters, the MCAI requires replacing bolts installed with an incorrect torque value applied before the effective date of the MCAI. This AD requires inspecting the torque of each nut instead, and depending on the outcome, removing the nut and its bolt from service.

The MCAI refers to the front and rear attachment bolts as “pins,” whereas this AD does not.

Costs of Compliance

The FAA estimates that this AD affects 30 helicopters (2 Model AS 332L2 helicopters and 28 Model EC 225LP helicopters) of U.S. registry. The FAA estimates the following costs to comply with this AD. Labor costs are estimated at $85 per hour.

For Model AS 332L2 Helicopters Only

Determining the adjusted life limit for the fittings takes 0.5 work-hour for an estimated cost of $43 per helicopter and $86 for the U.S. fleet.

If required, replacing a fitting (including associated hardware) and applying torque takes 8 work-hours and parts cost $7,000 for an estimated cost of $7,680 per helicopter.

For All Applicable Helicopters

Determining the adjusted life limit for the bolts takes 0.5 work-hour for an estimated cost of $43 per helicopter and $1,290 for the U.S. fleet.

If required, replacing a bolt (including associated hardware) takes 4 work-hours and parts cost about $89 for an estimated cost of $429 per bolt.

Modifying each MGB suspension bar takes up to 40 work-hours and parts cost up to $54,445 for an estimated cost of up to $57,845 (depending on helicopter configuration) per modification (up to four modifications per helicopter).

Performing a tightening torque inspection takes 4 hours for an estimated cost of $340 per inspection.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2020-06-12, Amendment 39-19881 (85 FR 19077, April 6, 2020); and

b. Adding the following new airworthiness directive:

2025-23-07 Airbus Helicopters: Amendment 39-23190; Docket No. FAA-2025-1736; Project Identifier MCAI-2024-00435-R.

(a) Effective Date

This airworthiness directive (AD) is effective January 12, 2026.

(b) Affected ADs

This AD replaces AD 2020-06-12, Amendment 39-19881 (85 FR 19077, April 6, 2020).

(c) Applicability

This AD applies to Airbus Helicopters, certificated in any category, identified in paragraphs (c)(1) and (2) of this AD.

(1) Model AS 332L2 helicopters with a main gearbox (MGB) suspension bar front attachment bolt part number (P/N) 332A22-1613-20 or 332A22-1613-21, MGB suspension bar rear attachment bolt P/N 332A22-1614-20, MGB suspension bar front attachment fitting P/N 332A22-1623-01, MGB suspension bar rear left-hand attachment fitting P/N 332A22-1624-02 or 332A22-1624-04, or MGB suspension bar rear right-hand attachment fitting P/N 332A22-1624-03 or 332A22-1624-05 installed.

(2) Model EC 225LP helicopters with MGB suspension bar front attachment bolt P/N 332A22-1613-21 or MGB suspension bar rear attachment bolt P/N 332A22-1614-20 installed.

Note 1 to paragraph (c): Airbus Helicopters refers to MGB suspension bar attachment bolts as “pins.”

(d) Subject

Joint Aircraft System Component (JASC) Code 6330, Main Rotor Transmission Mount.

(e) Unsafe Condition

This AD was prompted by a report of torque loss on a MGB suspension bar attachment bolt (bolt). The FAA is issuing this AD to prevent MGB suspension bar attachment fittings (fitting) and bolts remaining in service beyond their fatigue life. The unsafe condition, if not addressed, could result in structural failure of an MGB attachment assembly, detachment of an MGB suspension bar, and consequent loss of control of the helicopter.

(f) Compliance

Comply with this AD within the compliance times specified, unless already done.

(g) Required Actions for Bolts

For helicopters identified in paragraphs (c)(1) and (2) of this AD without Airbus Helicopters modifications 0728521, 0728904, 0728496, and 0729044 installed, within 30 hours time-in-service (TIS) after the effective date of this AD, review records to determine the total hours TIS of each bolt.

(1) Determine the life limit of each bolt by applying its total hours TIS by the add-on factor listed in Table No. 1 of Airbus Helicopters Emergency Alert Service Bulletin (EASB) No. 01.00.86, Revision 4, dated January 6, 2022 (EASB 01.00.86 Rev 4), or Airbus Helicopters EASB No. 04A013, Revision 4, dated January 6, 2022, as applicable to your model helicopter.

(i) Before further flight, remove from service any bolt that has reached or exceeded its life limit, and remove its associated MGB suspension bar attachment nut (nut) and cotter pins from service. Remove the associated convex and concave washers. Thereafter, before each flight, continue to calculate and record the life limit of each bolt on its component history card or equivalent record by applying the add-on factor each time the helicopter accumulates hours TIS and remove from service any bolt before reaching its life limit, along with its associated nut and cotter pins. Remove its associated convex and concave washers.

(ii) For each bolt that has not exceeded its life limit, before each flight, continue to calculate and record the life limit on its component history card or equivalent record by applying the add-on factor each time the helicopter accumulates hours TIS and remove from service any bolt before reaching its life limit, along with its associated nut and cotter pins. Remove the associated convex and concave washers.

(2) Before further flight, if any nut, bolt, or cotter pin was removed from service as a result of the actions in paragraph (g)(1) of this AD, replace those parts with airworthy parts, and install new (never installed) convex and concave washers or reinstall the convex and concave washers that were removed (if washers are airworthy). Torque each newly-installed nut to the minimum allowable torque value of: 735-840 lbf. in (8.3 daN.m to 9.5 daN.m) on the front nuts of the fittings, and 496-566 lbf. in (5.6 daN.m to 6.4 daN.m) on the rear nuts of the fittings.

(h) Required Actions for Fittings

For helicopters identified in paragraph (c)(1) of this AD without Airbus Helicopters modification 0728521, 0728904, 0728496, and 0729044 installed, within 30 hours TIS after the effective date of this AD, review records to determine the total hours TIS of each fitting.

(1) Determine the life limit of each fitting by applying its total hours TIS by the add-on factor listed in Table No. 1 of EASB 01.00.86 Rev 4.

(i) Before further flight, remove from service any fitting that has reached or exceeded its life limit, and remove its associated nuts, and cotter pins from service. Remove its associated convex and concave washers and bolts. Thereafter, before each flight, continue to calculate and record the life limit of each fitting on its component history card or equivalent record by applying the add-on factor each time the helicopter accumulates hours TIS and remove from service any fitting before reaching its life limit, along with its associated, nuts, and cotter pins. Remove its associated convex and concave washers and bolt.

(ii) For each fitting that has not exceeded its life limit, before each flight, continue to calculate and record the life limit of each fitting on its component history card or equivalent record by applying the add-on factor each time the helicopter accumulates hours TIS and remove from service any fitting before reaching its life limit, along with its associated, nuts and cotter pins from service. Remove its associated bolts, convex and concave washers.

(2) Before further flight, if any fitting or its associated nut, or cotter pin was removed from service as a result of the actions in paragraph (h)(1) of this AD, replace those parts with airworthy parts, and install new (never installed) convex and concave washers and bolt or reinstall the convex and concave washers and bolt that were removed (if the washers and bolt are airworthy). Torque each newly-installed nut using the allowable torque value in paragraph (g)(2) of this AD.

(i) Required Actions for Torque Values

For helicopters identified in paragraph (c)(1) of this AD without Airbus Helicopters modification 0728521, 0728904, 0728496, and 0729044 installed, within 150 hours TIS (without the add-on factor) after the effective date of this AD, inspect the torque of each nut.

(1) If the torque on any nut is higher than the maximum allowable torque stated in paragraph (g)(2) of this AD, before further flight, remove the nut, its associated bolt, and its cotter pins from service.

(2) If the torque on any nut is lower than the minimum allowable torque value stated in paragraph (g)(2) of this AD, before further flight, tighten the nut to the allowable torque stated in paragraph (g)(2) of this AD.

(3) Within 150 hours TIS (without the add-on factor), remove from service any nut its associated bolt, and its cotter pins that were tightened as required by paragraph (i)(2) of this AD, and torque each newly-installed nut using the allowable torque value in paragraph (g)(2) of this AD.

(j) Required Actions for Links

(1) For helicopters identified in paragraph (c)(1) of this AD without Airbus Helicopters modification 0728521, 0728904, 0728496, and 0729044 installed, within 825 hours TIS or 27 months after the effective date of this AD, whichever occurs first, modify the helicopter by installing attachment bracket links for the MGB suspension bars in accordance with the Accomplishment Instructions, paragraphs 3.B.2.a through 3.B.3.i., of Airbus Helicopters Alert Service Bulletin (ASB) No. AS332-53.02.03, Revision 2, dated June 15, 2023 (ASB AS332-53.02.03 Rev 2), except as provided in paragraphs (j)(1)(i) through (ix) of this AD.

Note 2 to the introductory text of paragraph (j)(1): Airbus refers to the installation of the attachment bracket links for the MGB suspension bar as modification 0728496, 0728521, 0728904, and 0729044.

(i) Instead of discarding parts, you must remove those parts from service.

(ii) Where ASB AS332-53.02.03 Rev 2 uses the term check, this AD requires doing an inspection.

(iii) You are not required to define or record the thickness of the peel shims.

(iv) Instead of contacting Airbus Helicopters if there is damage after removing corrosion, this AD requires that you remove the affected part from service before further flight.

(v) Instead of contacting Airbus Helicopters if there are any cracks on the frames at the attachment bracket fixations, this AD requires that you remove the affected part from service before further flight.

(vi) For purposes of this AD, “correctly stacked” as used in ASB AS332-53.02.03 Rev 2 means the concave washers are installed with the flat side towards the front bracket, and the convex washers are installed with the flat side towards the nuts.

(vii) For purposes of this AD, “correctly engaged” as used in ASB AS332-53.02.03 Rev 2 means the centering pin is engaged on the front plate.

(viii) Instead of contacting Airbus Helicopters if the clearance of J1 or J2 is less than 0.5 mm (0.0196 in) after inspecting the new links of the rear brackets, you must take corrective action until the clearance is at least 0.5 mm using a method approved by the Manager, General Aviation & Rotorcraft Section, International Validation Branch, FAA; or European Union Aviation Safety Agency (EASA); or Airbus Helicopters EASA Design Organization Approval (DOA). If approved by the DOA, the approval must include the DOA-authorized signature.

(ix) For the purposes of this AD, new as used in ASB AS332-53.02.03 Rev 2 means the part has never been installed on a helicopter.

(2) For helicopters identified in paragraph (c)(2) of this AD without Airbus Helicopters modification 0728521, 0728904, 0728496, and 0729044 installed, within 1,320 hours TIS or 40 months after the effective date of this AD, whichever occurs first, modify the helicopter by installing bracket links for the MGB suspension bars in accordance with the Accomplishment Instructions, paragraphs 3.B.2. through 3.B.3.i, of Airbus Helicopters ASB No. EC225-53A065, Revision 4, dated May 28, 2024 (ASB EC225-53A065 Rev 4), except as provided in paragraphs (j)(2)(i) through (ix) of this AD.

(i) Instead of discarding parts, you must remove those parts from service.

(ii) Where ASB EC225-53A065 Rev 4 uses the term check, this AD requires doing an inspection.

(iii) You are not required to define or record the thickness of the peel shims.

(iv) Instead of contacting Airbus Helicopters if there is damage after removing corrosion, this AD requires that you remove the affected part from service before further flight.

(v) Instead of contacting Airbus Helicopters if there are any cracks on the frames at the attachment bracket fixations, this AD requires that you remove the affected part from service before further flight.

(vi) For the purposes of this AD, “correctly stacked” as used in ASB EC225-53A065 Rev 4 means the concave washers are installed with the flat side towards the bracket, and the convex washers are installed with the flat side towards the nuts.

(vii) For purposes of this AD, “correctly engaged” as used in ASB EC225-53A065 Rev 4 means the centering pin is engaged on the front plate.

(viii) Instead of contacting Airbus Helicopters if the clearance of J1 or J2 is less than 0.5 mm (0.0196 in) after inspecting the new links of the rear brackets, you must take corrective action until the clearance is at least 0.5 mm using a method approved by the Manager, General Aviation & Rotorcraft Section, International Validation Branch, FAA; or EASA; or Airbus Helicopters EASA Design Organization Approval (DOA). If approved by the DOA, the approval must include the DOA-authorized signature.

(ix) Where ASB EC225-53A065 Rev 4 uses the phrase “if necessary”, this AD requires replacing that text with “if applicable”.

(3) For helicopters identified in paragraphs (c)(1) and (2) of this AD that have Airbus Helicopter modification 0728521, 0728904, 0728496, and 0729044 installed before the effective date of this AD, within 27 months for Model AS 332L2 helicopters, and within 40 months for Model EC 225LP helicopters, after the effective date of this AD, modify the helicopter in accordance with the Accomplishment Instructions, paragraphs 3.B.2.c.1.b through 3.B.2.c.2.b of ASB AS332-53.02.03 Rev 2 or ASB EC225-53A065 Rev 4, as applicable to your model helicopter, and tighten to the standard torque value, except instead of discarding parts, you must remove those parts from service.

(4) Modifying the helicopter as required by paragraphs (j)(1) or (2) of this AD terminates the life limit required by paragraphs (g) and (h) of this AD.

(k) Installation Prohibition

As of the effective date of this AD, do not install front bolt P/N 332A22-1613-20 or 332A22-1613-21, rear bolt P/N 332A22-1614-20, front fitting P/N 332A22-1623-01, rear left-hand fitting P/N 332A22-1624-02 or 332A22-1624-04, or rear right-hand fitting P/N 332A22-1624-03 or 332A22-1624-05 on any helicopter, unless:

(1) The part has not exceeded the applicable service life limit after accomplishing the actions required by paragraphs (g)(1) or (h)(1) of this AD, as applicable; and

(2) After installation of the part, the life limit is calculated in accordance with paragraph (g)(1) or (h)(1) of this AD and all other applicable requirements of this AD are accomplished.

(l) Credit for Previous Actions

(1) For Model AS 332L2 helicopters, paragraph (l)(1) of this AD provides credit for the initial life limit calculations required by paragraphs (g)(1) and (h)(1) of this AD, if those calculations were performed before the effective date of this AD using the material identified in paragraphs (l)(1)(i) through (iv) of this AD.

(i) Airbus Helicopters EASB No. 01.00.86, Revision 0, dated July 27, 2017.

(ii) Airbus Helicopters EASB No. 01.00.86, Revision 1, dated August 25, 2017.

(iii) Airbus Helicopters EASB No. 01.00.86, Revision 2, dated March 2, 2020.

(iv) Airbus Helicopters EASB No. 01.00.86, Revision 3, dated August 19, 2021.

(2) For Model EC 225LP helicopters, paragraph (l)(2) of this AD provides credit for the initial life limit calculations required by paragraph (g)(1) of this AD, if those calculations were performed before the effective date of this AD using the material identified in paragraphs (l)(2)(i) through (iv) of this AD.

(i) Airbus Helicopters EASB No. 04A013, Revision 0, dated July 27, 2017.

(ii) Airbus Helicopters EASB No. 04A013, Revision 1, dated August 25, 2017.

(iii) Airbus Helicopters EASB No. 04A013, Revision 2, dated March 2, 2020.

(iv) Airbus Helicopters EASB No. 04A013, Revision 3, dated August 19, 2021.

(m) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (n)(1) of this AD. Information may be emailed to AMOC@faa.gov.

(2) Before using any approved AMOC, notify your appropriate principal inspector, or lacking a principal inspector, the manager of the local flight standards district office/certificate holding district office.

(n) Additional Information

(1) For more information about this AD, contact Dan McCully, Aviation Safety Engineer, FAA, 1600 Stewart Avenue Suite 410, Westbury, NY 11590; phone: (781) 238-7244; email: william.mccully@faa.gov.

(2) Material identified in this AD that is not incorporated by reference is available at the address specified in paragraph (o)(3) of this AD.

(o) Material Incorporated by Reference

(1) The Director of the Federal Register approved the incorporation by reference of the material listed in this paragraph under 5 U.S.C. 552(a) and 1 CFR part 51.

(2) You must use this material as applicable to do the actions required by this AD, unless the AD specifies otherwise.

(i) Airbus Helicopters Alert Service Bulletin No. AS332-53.02.03, Revision 2, dated June 15, 2023.

(ii) Airbus Helicopters Alert Service Bulletin No. EC225-53A065, Revision 4, dated May 28, 2024.

(iii) Airbus Helicopters Emergency Alert Service Bulletin No. 01.00.86, Revision 4, dated January 6, 2022.

(iv) Airbus Helicopters Emergency Alert Service Bulletin No. 04A013, Revision 4, dated January 6, 2022.

(3) For Airbus Helicopters material identified in this AD, contact Airbus Helicopters, 2701 North Forum Drive, Grand Prairie, TX 75052; phone: (972) 641-0000 or (800) 232-0323; fax: (972) 641-3775; website: airbus.com/en/products-services/helicopters/hcare-services/airbusworld.

(4) You may view this material at the FAA, Office of the Regional Counsel, Southwest Region, 10101 Hillwood Parkway, Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on December 2, 2025.
Steven W. Thompson,
Acting Deputy Director, Compliance & Airworthiness Division, Aircraft Certification Service.

[FR Doc. 2025-22218 Filed 12-5-25; 8:45 am]

BILLING CODE 4910-13-P